DEPARTMENT OF ENERGY

Record of Decision; Boardman-to-Ione 69-kV Transmission Line

AGENCY: Bonneville Power Administration (Bonneville), Department of Energy (DOE).

ACTION: Record of decision (ROD).

SUMMARY: The Bonneville Power Administration has decided to implement a portion of the Agency Preferred Alternative from the Final Environmental Impact Statement and Proposed Land Use Plan Amendments for the Boardman to Hemingway Transmission Line Project (DOI-BLM-ORWA-V000-2012-0016-EIS, OROR-065375, IDI-036029 and DOE/EIS-0507, November 2016) (B2H Project Final EIS). More specifically, Bonneville has decided to enter into an amended land use agreement with the U.S. Navy (Navy) concerning Bonneville's existing 69-kilovolt (kV) Boardman-to-Ione transmission line. This amended land use agreement authorizes Bonneville's ongoing access to certain land on the Navy's Naval Weapon Systems Training Facility Boardman (NWSTF Boardman) in Morrow County, Oregon for approximately 14 miles of the Boardman-to-Ione transmission line, while also including terms to trigger the phased removal of this line off of NWSTF Boardman if the B2H Project is constructed.

Idaho Power Company (IPC) has proposed to construct the approximately 290-mile-long B2H Project, a portion of which would occupy the Boardman-to-Ione transmission line right-of-way. The environmental effects of removing the Boardman-to-Ione transmission line from NWSTF Boardman were analyzed in the B2H Project Final EIS, and removal of this line was identified as part of the Agency Preferred Alternative in the Final EIS. The U.S. Bureau of Land Management (BLM) was the lead federal agency under the National Environmental Policy Act (NEPA) for preparation of the B2H Project Final EIS. Bonneville and nineteen other public entities were involved in the EIS as cooperating agencies under NEPA. Bonneville hereby adopts the relevant portions of the Final EIS to support its decision to amend the Boardman-to-Ione transmission line land use agreement.

Several other federal agencies—including the BLM, the U.S. Forest Service, and the U.S. Bureau of Reclamation—have issued approvals to IPC for portions of the B2H Project under their jurisdiction. These approvals have been for a B2H Project route alignment that follows the Agency Preferred Alternative in the Final EIS. Bonneville's decision to amend the existing Boardman-to-Ione land use agreement to allow for removal of the line for the B2H Project is consistent with these approvals.

ADDRESSES: This ROD will be available to all interested parties and affected persons and agencies. Copies of this ROD can be obtained from Bonneville's Public Information Center, P.O. Box 3621, Portland, Oregon, 97208-3621; by calling Bonneville's nationwide toll-free request line at 1-800-622-4520; or by accessing Bonneville's Project website at: www.bpa.gov/goto/BoardmanHemingway.

FOR FURTHER INFORMATION CONTACT: Jamie Murray, Supervisory Realty Specialist, Bonneville Power Administration—TERR-Kalispell; 2520 US Highway 2 E., Kalispell, MT 59912; toll-free telephone number 1-800-622-4519; or email jcmurray@bpa.gov or Katey Grange, Environmental Protection Specialist, Bonneville Power Administration—ECT-4, P.O. Box 3621, Portland, Oregon, 97208-3621; toll-free telephone number 1-800-622-4519; or email kcgrange@bpa.gov.

SUPPLEMENTARY INFORMATION:

Background

Bonneville is a federal agency that owns and operates the majority of the high-voltage electric transmission system in the Pacific Northwest. This system is referred to as the Federal Columbia River Transmission System (FCRTS). The 69-kV Boardman-to-Ione transmission line is part of the FCRTS. This line extends about 30 miles from Bonneville's Boardman Substation to near the Ione Substation, both of which are located in Morrow County, Oregon. About 14 miles of the Boardman-to-Ione transmission line is located along the eastern and southern boundary of the NWSTF Boardman, which is managed by the Navy. This 14-mile-long section currently occupies a 90-foot-wide right-of-way. The structures in this section of right-of-way have height restrictions (100 feet) based on requirements to operate within NWSTF Boardman. The existing land use agreement between Bonneville and the Navy was executed in February of 1971 and subsequently amended in March 2013. This existing land use agreement allows Bonneville to construct, reconstruct, operate, maintain, and access the Boardman-to-Ione transmission line in its current location on NWSTF Boardman.

In 2007, IPC formally proposed the B2H Project by initiating an application process with the BLM to construct, maintain, and operate the B2H Project on BLM-managed lands. As proposed by IPC, the project includes about 290 miles of single-circuit 500-kV transmission line and other ancillary facilities extending from the proposed Longhorn Substation in Morrow County, Oregon, to the existing Hemingway Substation in Owyhee County, Idaho.

The BLM initiated a NEPA process for consideration of IPC's application by publishing a Notice of Intent (NOI) to prepare an EIS for the B2H Project in the Federal Register on September 12, 2008. Various federal agencies (including Bonneville), state agencies, counties, and other entities agreed to act as cooperating agencies for the EIS. The BLM then published a revised NOI in the Federal Register on July 27, 2010 to address 2010 revisions to the B2H Project application by IPC.

The BLM, in coordination with the cooperating agencies, published a Draft EIS for the B2H Project on December 19, 2014. The Final EIS for the B2H Project was published on November 28, 2016. The Final EIS identified an Agency Preferred Alternative for the B2H Project that was composed of various segments of the Project analyzed in the EIS. This Agency Preferred Alternative included the removal of the Boardman-to-Ione transmission line from NWSTF Boardman, along with potential relocation of this line to nearby private lands.

In November of 2017, the BLM issued a ROD that authorized issuance of a right-of-way grant to IPC for a 250-foot-wide right-of-way for the B2H Project on 85.6 miles of BLM-managed lands, consistent with the route alignment for the Agency Preferred Alternative identified in the Final EIS. In February of 2018, the U.S. Bureau of Reclamation published a ROD authorizing a right-of-way grant to IPC for the portion of the B2H Project right-of-way that crosses about one mile of U.S. Bureau of Reclamation lands under the Agency Preferred Alternative. In November of 2018, the U.S. Forest Service issued a ROD that selected the Agency Preferred Alternative and approved an Electric Transmission Line Easement Special Use Authorization and associated forest plan amendments, including terms and conditions to IPC contained in an easement. The RODs documenting other federal agencies' decisions are in process.

On April 17, 2018, IPC submitted to the Navy an application to obtain an easement to construct about seven miles of the B2H Project within Bonneville's existing Boardman-Ione transmission line right-of-way on NWSTF Boardman, consistent with the Agency Preferred Alternative identified in the B2H Project Final EIS. The easement application states that if IPC constructs the B2H Project within a portion of the Boardman-to-Ione transmission line right-of-way on NWSTF Boardman, then IPC will remove the entire Bonneville Boardman-to-Ione transmission line currently on NWSTF Boardman. The removal of the Boardman-to-Ione transmission line will potentially occur in phases. IPC's application was deemed complete by the Navy on May 16, 2018.

Alternatives Considered

Specific to the removal of the Boardman-to-Ione transmission line from NWSTF Boardman, the B2H Project Final EIS identified and evaluated three design options for the removal and relocation of the Boardman-to-Ione transmission line. Design Option 1 involves partial removal of this transmission line from NWSTF Boardman. Design Option 2 involves full removal of this line from NWSTF Boardman. Finally, Design Option 3 also involves full Removal of this line from NWSTF Boardman but also includes construction of a new step-down substation. These design options are described in Section 2.5.2.1 of the Final EIS.

As part of implementing any of these design options, amendment of the existing land use agreement between Bonneville and the Navy for the Boardman-to-Ione transmission line on NWSTF Boardman is required. The amended land use agreement requires the following conditions be met before Bonneville relinquishes the right-of-way for this line on the NWSTF Boardman:

• A new transmission line and associated infrastructure on the east side of Bombing Range Road be constructed to allow Bonneville to continue service to its customer(s);

• Bonneville is able to secure transmission service under reasonable terms and conditions or own capacity on the new line to continue to provide cost effective and reliable service to its customer(s);

• The B2H Project funds the costs associated with Bonneville relinquishing the right-of-way and replacing the existing service capability and reliable service to its customer; and

• The resolution of any associated real property or commercial issues.

Under the amended land use agreement, if these conditions are realized, Bonneville will relinquish, potentially in phases, its right-of-way along the boundary of NWSTF Boardman. The Boardman-to-Ione transmission line removal timing, the design of the transmission line to replace the Boardman-to-Ione line, and other supporting infrastructure needed to meet service requirements will depend on the construction of other transmission infrastructure on the east side of Bombing Range Road, across the roadway from NWSTF Boardman. Ultimately, if all Bonneville service and reliability conditions are met and the B2H Project is constructed, under the amended land use agreement, the entire Boardman-to-Ione transmission line will be removed from NWSTF Boardman within 10 years of the B2H Project being placed in service.

If the B2H Project is not constructed on NWSTF Boardman or the Navy does not grant an easement to the B2H project, all terms of the existing land use agreement, including all previous amendments, between Bonneville and the Navy for the Boardman-to-Ione transmission line right-of-way will remain in place and unchanged.

The B2H Project Final EIS also included a No Action Alternative. Under the No Action Alternative, Bonneville would not amend the Boardman-to-Ione transmission line's land use agreement. The B2H Project would not be constructed within the existing Boardman-to-Ione transmission line right-of-way. There would be no changes to the location, operation, maintenance, or Bonneville access for the Boardman-to-Ione transmission line on NWSTF Boardman. Because there would be no ground disturbance or other new environmental impacts related to this portion of the existing Boardman-to-Ione transmission line, the No Action Alternative would be considered the environmentally preferable alternative for Bonneville's action that is the subject of this ROD.

Bonneville's Rationale for Decision

In making its decision to amend the land use agreement with the Navy for the Boardman-to-Ione transmission line, Bonneville has considered and balanced a variety of relevant factors. Bonneville considered the environmental impacts described in the Final EIS, as well as public comments received throughout the NEPA process and on the Draft and Final EISs. Bonneville also considered the following Bonneville purposes (i.e., objectives) identified in the Final EIS:

• Maintain Bonneville's transmission system reliability and performance

• Meet Bonneville's contractual and statutory obligations

• Minimize impacts on the environment

• Minimize costs while meeting Bonneville's power and transmission service needs

Finally, Bonneville considered the decisions by the BLM, U.S. Bureau of Reclamation, and U.S. Forest Service to grant respective approvals, in part, based on the analysis contained in the Final EIS for the B2H Project, for rights-of-way over the lands they manage for the Agency Preferred Alternative. After considering and balancing all of these factors, Bonneville has decided to amend the land use agreement with the Navy that authorizes the on-going operation and maintenance of the 69-kV Boardman-to-Ione transmission line on NWSTF Boardman in Morrow County, Oregon.

Amending the land use agreement will not interfere with or otherwise affect Bonneville's ability to maintain the stability and reliability of its transmission system or for Bonneville to meet contractual or statutory obligations. The implementation of the removal actions based on the reliability and customer conditions identified in the amended land use agreement will ensure that any change in transmission infrastructure will continue to meet Bonneville's system stability and reliability needs and to provide service to its customer(s).

The removal of the Boardman-to-Ione transmission line from NWSTF Boardman and any supporting infrastructure construction, such as a stepdown substation or access roads, will likely result in impacts to soils, land uses, vegetation, wildlife habitat, and, potentially, some sensitive resources. The impacts associated with these activities were analyzed in the B2H Project Final EIS, which also identifies numerous mitigation measures and required design features to reduce, avoid, or compensate for B2H Project impacts. IPC has committed to implement these design features and mitigation measures as part of the development of the B2H Project. Specific to removing the line, methods would be used to minimize ground disturbance and restrict vehicle access in order to minimize potential environmental impacts. In addition, final removal plans would be coordinated with NWSTF Boardman personnel as well as Morrow County Public Works, Oregon Department of Transportation, adjacent landowners, and other relevant agencies. As additional site-specific information to refine the location and nature of the Boardman-to-Ione transmission line's removal activities are further known, Bonneville may identify additional necessary minimization and/or mitigation actions.

Should the Boardman-to-Ione transmission line be removed to accommodate the B2H Project, the estimated cost of the removal and replacement activities will be about $16 million dollars, which will be paid for by the B2H Project. Should the B2H Project not be built, the Boardman-to-Ione transmission line will remain in place and there will be no costs associated with removal and replacement activities. Either way, costs to Bonneville would be minimal to non-existent.

Mitigation

A complete list of required environmental protection measures designed to avoid and/or minimize environmental harm from B2H Project construction, operation, and maintenance activities, is available in Chapter 2 (Table 2-7) of the Final EIS and in Appendix D of BLM's ROD. All the mitigation measures that apply to removal of the Boardman-to-Ione transmission line from NWSTF Boardman are adopted. IPC will be responsible for implementing mitigation measures for their actions identified in the EIS. As additional site-specific information to refine the location and nature of the Boardman-to-Ione transmission line's removal activities are further known, Bonneville may identify additional necessary minimization and/or mitigation actions. Before Bonneville takes any action to begin removal of the Boardman-to-Ione transmission line, Bonneville will prepare a Mitigation Action Plan for all mitigation it intends to implement.

Signed on the 13th day of May 2019.
Elliot E. Mainzer,
Administrator and Chief Executive Officer.

[FR Doc. 2019-11140 Filed 5-28-19; 8:45 am]

BILLING CODE 6450-01-P